DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The National Health Service Corps (NHSC) Loan Repayment Program (LRP) (OMB No. 0915-0127)—Extension

The NHSC Loan Repayment Program (LRP) was established to assure an adequate supply of trained primary care health professionals to provide services in the neediest Health Professional Shortage Areas (HPSAs) of the United States. Under this program, the Department of Health and Human Services agrees to repay the educational loans of the primary care health professionals. In return, the health professionals agree to serve for a specified period of time in a federally-designated HPSA approved by the Secretary for LRP participants.

This request for extension of OMB approval will include the NHSC LRP Application, Loan Verification Form, Site Information Form, Request for Method of Advanced Loan Repayment Form and Authorization to Release Information Form.

The estimate of burden is as follows:

Type of respondents | Number of respondents | Responses per respondent | Total responses | Hours per responses | Total burden hours
Applicants | 1430 | *1 | 1430 | 1.5 | 2145
Lenders | 70 | **1 | 70 | .25 | 18
Total |  | 1500 | 1500 |  | 2163
*An applicant response includes completion of one of each of the above-listed forms, and may include the completion of additional Loan Verification Forms (one for each educational loan for which he or she is seeking repayment).
**A lender response includes completion of one Loan Verification Form for each educational loan of an applicant it holds.

Send comments to Susan G. Queen, Ph.D., HRSA Reports Clearance Officer, Room 10-33, Parklawn Building, 5600 Fishers Lane, Rockville, MD 20857. Written comments should be received within 60 days of this notice.

Dated: February 10, 2005.
Tina M. Cheatham,
Director, Division of Policy Review and Coordination.

[FR Doc. 05-3022 Filed 2-16-05; 8:45 am]

BILLING CODE 4165-15-P